DEPARTMENT OF HOUSING AND URBAN DEVELOPMENT

[Docket No. FR-4723-FA-16]

Announcement of Funding Awards; Fair Housing Initiatives Program; Fiscal Year 2002

AGENCY: Office of the Assistant Secretary for Fair Housing and Equal Opportunity, HUD.

ACTION: Announcement of funding awards.

SUMMARY: In accordance with section 102(a)(4)(C) of the Department of Housing and Urban Development Reform Act of 1989, this announcement notifies the public of funding decisions made by the Department for funding under the SuperNotice of Funding Availability (SuperNOFA) for the Fair Housing Initiatives Program (FHIP) for Fiscal Year (FY) 2002. This announcement contains the names and addresses of those award recipients selected for funding based on the rating and ranking of all applications and the amount of the awards.

FOR FURTHER INFORMATION CONTACT: Myron Newry, Director, FHIP Support Division, Office of Programs, Room 5230, 451 Seventh Street, SW., Room 5230, Washington, DC 20410. Telephone number (202) 708-2215, extension 7095 (this is not a toll-free number). A telecommunications device (TTY) for hearing or speech-impaired persons is available at 1-800-877-8339 (this is a toll-free number).

SUPPLEMENTARY INFORMATION: Title VIII of the Civil Rights Act of 1968, as amended, 42 U.S.C. 3601-19 (the Fair Housing Act) charges the Secretary of Housing and Urban Development with responsibility to accept and investigate complaints alleging discrimination based on race, color, religion, sex, handicap, familial status or national origin in the sale, rental, or financing of most housing. In addition, the Fair Housing Act directs the Secretary to coordinate with State and local agencies administering fair housing laws and to cooperate with and render technical assistance to public or private entities carrying out programs to prevent and eliminate discriminatory housing practices.

Section 561 of the Housing and Community Development Act of 1987, 42 U.S.C. 3616, established FHIP to strengthen the Department's enforcement of the Fair Housing Act and to further fair housing. This program assists projects and activities designed to enhance compliance with the Fair Housing Act and substantially equivalent State and local fair housing laws. Implementing regulations are found at 24 CFR part 125.

The Department announced in the Federal Register on March 26, 2002 (67 FR 13826 and 67 FR 14003), the availability of approximately $20,250,000, and any potential recapture, to be utilized for the Fair Housing Initiatives Program for projects and activities through the Private Enforcement Initiative (PEI), the Education and Outreach Initiative (EOI), and the Fair Housing Organizations Initiative (FHOI). This Notice announces the award of approximately $18,249,887.87 of FY 2002 funds in grants to 97 organizations and $1,994,458.00 in 4 contracts to 2 organizations.

The Department reviewed, evaluated and scored the applications received based on the criteria in the FY 2002 SuperNOFA. As a result, HUD has funded the applications announced in Appendix A, and in accordance with section 102(a)(4)(C) of the Department of Housing and Urban Development Reform Act of 1989 (103 Stat. 1987, 42 U.S.C. 3545), the Department is hereby publishing details concerning the recipients of funding awards in Appendix A of this document.

The Catalog of Federal Domestic Assistance Number for currently funded Initiatives under the Fair Housing Initiatives Program is 14.408.

Date: August 10, 2006.
Bryan Greene,
Deputy Assistant Secretary for Enforcement and Programs.

Appendix A—Fair Housing Initiatives Program Awards FY 2002
Organization | Contact person | Region | Amount awarded
Education and Outreach Initiative/ General Component
Pine Tree Legal Assistance, Inc., P.O. Box 547, 88 Federal Street, Portland, ME 04112 | Nan Heald, (207) 774-4753 | 1 | $100,000.00
Rhode Island Legal Services, Inc., 56 Pine Street, 4th Floor, Providence, RI 02903 | Robert Barge, (401) 274-2652 ext.121 | 1 | 100,000.00
Citizens Action of NJ, 400 Main Street, Hackensack, NJ 07601 | Phyllis Salowe-Keye (201) 488-2804 | 2 | 88,378.62
Housing Council in the Monroe County Area, Inc., 183 East Main Street, Ste. 1100, Rochester, NY 14202 | Bret Garwood, (585) 546-3700 ext. 300 | 2 | 99,728.00
Neighborhood Economic Development Advocacy, 73 Spring Street, Ste. 506, New York, 10012 | Sarah Ludwig, (212) 680-5100 | 2 | 100,000.00
Acorn Fair Housing, 739 8th Street, SE., Washington, DC 20003 | Carolyn Carr, (202) 547-2500 | 3 | 100,000.00
Delaware Community Reinvestment Action Council, 601 N. Church Street, Wilmington, DE 19801-4420 | Rashmi Ragan, (302) 654-5024 | 3 | 64,000.00
Fair Housing Council of Montgomery County, 105 E. East Glenside Avenue, Glenside, PA 19038 | Elizabeth Albert, (215) 576-7711 | 3 | 100,000.00
Piedmont Housing Alliance, 2000 Holiday Drive, Ste. 200, Charlottesville, VA 22901 | Karen Klick, (434) 817-2436 ext. 106 | 3 | 66,655.00
Fair Housing Agency of Alabama, 1111 Beltline Highway, Ste. 109, Mobile, AL 366068 | Enrique Lang, (251) 471-9333 | 4 | 98,106.00
Greenville County Human Relations Commission, 301 University Ridge, Ste. 1600, Greenville, SC 2901-3660 | Sharon Smathers, (864) 467-7095 | 4 | 85,936.00
JC Vision and Associates, Inc., P.O. Box 1972, 135C East MLK, Jr. Drive, Hinesville, GA 31313 | Dana Ingram, (912) 877-4243 | 4 | 99,993.00
Legal Aid Society of Palm Beach County, Inc., 423 Fern Street, Ste. 200, West Palm Beach, FL 33401 | Robert Bertisch, (561) 655-8944 ext. 247 | 4 | 100,000.00
Kentucky Fair Housing Council, 835 W Jefferson Street, #100, Louisville, KY 40202 | Galen Martin, (502) 583-3247 | 4 | 99,937.00
South Mississippi Legal Services Corporation, P.O. Box 1386, Biloxi, MS 39533 | Stanley Taylor, Jr., (228) 374-4160 ext. 23 | 4 | 100,000.00
Metropolitan Development and Housing Agency, 701 South Sixth Street, Nashville, TN 37026 | Connie Davenport, (615) 780-7085 | 4 | 98,638.29
Acorn Housing Corporation, 757 Raymond Avenue, #200, St. Paul, MN 55114 | Jordon Ash, (651) 203-0008 | 5 | 100,000.00
Coalition on Homelessness and Housing in Ohio, 35 East Gay Street, Ste. 210, Columbus, OH 43215 | Bill Faith, (614) 280-1984 | 5 | 100,000.00
Detroit Alliance For Fair Banking, 8445 East Jefferson Avenue, Detroit, MI 48214 | Veronica Williams, (313) 824-0950 | 5 | 100,000.00
Jane Adams Hull House Association, 10 South Riverside, Ste. 1700, Chicago, IL 60606 | Jennifer Michael, (312) 906-8600 ext. 227 | 5 | 100,000.00
Leadership Council for Metropolitan Open Communities, 111 W. Jackson Blvd., 12th Floor, Chicago, IL 60604 | John Lukehart, (312) 341-5678 | 5 | 100,000.00
Metropolitan Interfaith Council on Affordable Housing, 122 West Franklin Avenue, Ste. 310, Minneapolis, MN 55404 | Joy Sorensen-Navarre, (612) 871-8980 | 5 | 99,998.00
Prairie State Legal Service, Inc., 975 North Main Street, Rockford, IL 61103 | Gail Walsh, (815) 965-2134 | 5 | 99,820.00
United Migrant Opportunity Services, Inc., 929 West Mitchell Street, Milwaukee, WI 53204 | John Bauknecht, (608) 249-1180 | 5 | 99,999.00
Acorn Community Land Association of LA, 1024 Elysian Fields Avenue, New Orleans, LA 70117 | Marianna Butler, (504) 943-0044 ext. 116 | 6 | 100,000.00
City of Garland, 210 Carver Street, Ste. 102A, Garland, TX 75040 | Jim Slaughter, (972) 205-3313 | 6 | 100,000.00
City of Sante Fe, P.O. Box 909, 120 S. Federal Place, Sante Fe, NM 87504 | Larry A. Delgado, (505) 955-6567 | 6 | 98,889.95
Consumer Credit Counseling Service of Greater Dallas, 8737 King George Drive, Ste.200, Dallas, TX 75235 | Chris Dugan, (214) 638-2227 | 6 | 99,883.01
Housing Partners of Tulsa, Inc., P.O. Box 6369, Tulsa, OK 74148 | Roy E. Hancock, (918) 581-5709 | 6 | 60,921.00
Urban League of Wichita, Inc., 1802 East 13th Street, North, Wichita, KS 67214 | Prentice Lewis, (316) 262-2463 | 7 | 100,000.00
Colorado Coalition for the Homeless, 2111 Champa, Denver, C0 80205 | Tracy Eilers, (303) 285-5222 | 8 | 100,000.00
Arizona Fair Housing Center, 615 North 5th Avenue, Phoenix, AZ 85003 | Edward Valenzuela, (602) 548-1599 | 9 | 99,962.00
Inland Fair Housing and Mediation Board, 1005 Begonia Avenue, Ontario, CA 91762 | Betty Davidow, (909) 984-2254 | 9 | 88,903.00
Legal Aid Society of Hawaii, 924 Bethel Street, Honolulu, HI 96813 | Brian Ezuka, (808) 527-8020 | 9 | 100,000.00
Idaho Legal Aid Services, Inc., 310 N. 5th Street, Boise, ID 83702 | Kelly Miller, (208) 336-8980 x109 | 10 | 100,000.00
International District Housing Alliance, 606 Maynard Ave., S., Ste. 105, Seattle, WA 98104 | Stella Chow, (206) 623-5132 x15 | 10 | 99,560.00
Legal Aid Services of Oregon, 700 SW. Taylor Street, Ste. 310, Portland, OR 97205 | Thomas Matsuda, (503) 471-0147 | 10 | 99,908.00
Education and Outreach Initiative/Disability Component
Bronx Independent Living Services, Inc., 3525 Decatur Avenue, Brooklyn, NY 10467 | Barbara Linn, (718) 515-2800 | 2 | 100,000.00
Endependence Center, Inc., 6320 North Center Drive, Norfolk, VA 23502 | Richard Dipeppe, (757) 461-8007 | 3 | 100,000.00
Three Rivers Center for Independent Living (TRICIL) Services, Inc., 900 Rebecca Avenue, Wilkinsburg, PA 15221 | Stanley Holbrook, (412) 371-7700 | 3 | 40,218.00
Mid-Florida Partnership, Inc., 330 North Street, Daytona Beach, FL 32114 | Francine Gordon, (386) 252-7200 | 4 | 100,000.00
Progress Center for Independent Living, 7521 Madison Street, Rockford, IL 60130 | Diane Coleman, (708) 209-1500 | 5 | 100,000.00
Statewide Independent Living Council For Homeownership, 122 South Fourth Street, Springfield, IL 62701 | John Eckert, (217) 744-7777 | 5 | 47,931.00
Advocacy Center, 225 Baronne Street, Ste. 2112, New Orleans, LA 70112 | Lois Simpson, (504) 522-2337 | 6 | 98,425.00
Iowa Civil Rights Commission, 211 East Maple, Des Moines, IA 50309 | Dawn Peterson, (515) 281-8086 | 7 | 98,543.00
AIDS Legal Referral Panel, 1663 Mission Street, Ste. 500, San Francisco, CA 94103 | Bill Hirsh, (415) 701-1200 ext. 308 | 9 | 69,883.00
Mental Health Advocacy Services, Inc., 1336 Wilshire Blvd., Ste. 102, Los Angeles, CA 90017 | James Pries, (213) 484-1628 ext. 13 | 9 | 70,000.00
Private Enforcement Initiatives Component
Connecticut Fair Housing Center, 221 Main Street, Ste. 204, Hartford, CT 06106 | Erin Kemple, (860) 247-4400 | 1 | 254,558.00
New Hampshire Legal Assistance, 1361 Elm Street, Ste. 307, Manchester, NH 03101 | Christine Wellington, (603) 206-2214 | 1 | 258,000.00
Champlin Valley O.E.O., Inc., P.O. Box 1603, 191 North Street, Burlington, VT 05402 | Robert Meehan, (802) 651-0551 | 1 | 245,427.00
Fair Housing Center of Greater Boston, 59 Temple Place, Ste. 1105, Boston, MA 02111 | David Harris, (617) 399-0491 | 1 | 274,995.00
South Brooklyn Legal Services Corporation, 105 Court Street, Brooklyn, NY 11201 | Josh Zinner, (718) 237-5519 | 2 | 275,000.00
Fair Housing Council of CNY, Inc., 327 West Fayette Street, Ste. 408, Syracuse, NY 13202 | Merrilee Witherel, (315) 471-0420 | 2 | 271,895.00
Fair Housing Council of Northern New Jersey, 131 Main Street, Hackensack, NJ 07601 | Lee Porter, (201) 489-3552 | 2 | 275,000.00
Housing Opportunities Made Equal, Inc., 700 Mail Street, 3rd Floor, Buffalo, NY 14202 | Scott Gehl, (716) 854-1400 | 2 | 247,000.00
Monroe County Legal Assistance Corporation, 80 St. Paul Street, Ste. 700, Rochester, NY 14604 | Laurie Lambrix, (585) 325-2520 | 2 | 274,944.00
Fair Housing Council of Suburban Philadelphia, 225 S. Chester Road, Swarthmore, PA 19801 | James Berry, (610) 604-4411 | 3 | 205,548.24
Equal Rights Center, Inc., 11 Dupont Circle, NW., 4th Floor, Washington, DC 20036 | Veralee Liban, (202) 234-3062 | 3 | 275,000.00
Fair Housing Partnership of Greater Pittsburgh, Inc., 7 Wood Street, Ste. 602, Pittsburgh, PA 15222 | Steven Pakin, (412) 391-2535 | 3 | 274,997.00
Central Alabama Fair Housing Center, 207 Montgomery Street, Ste. 725, Montgomery, AL 36104 | Faith Cooper, (334) 263-4663 | 4 | 274,000.00
Lexington Fair Housing Council, Inc., 205 East Reynolds Road, Ste. E, Lexington, KY 40517 | Teresa Isaac, (859) 971-8067 | 4 | 233,721.65
Fair Housing Continuum, Inc., 840 N. Cocoa Blvd., Ste. F, Cocoa, FL 32922 | David Baade, (321) 633-4551 | 4 | 274,998.00
Fair Housing Center of Northern Alabama, 1728 3rd Avenue, Ste. 218, Birmingham, AL 35203 | Lila Hackett, (205) 324-0111 | 4 | 275,000.00
Housing Opportunities Project for Excellence, Inc., 18441 NW. 2nd Avenue, Ste. 218, Miami, FL 33169 | William Thompson, (305) 651-4673 | 4 | 275,000.00
Savannah-Chatham County Fair Housing Council, Inc., 7 East Congress Street, Ste. 402, Savannah, GA 31401 | David Dawson, Jr., (912) 651-3136 | 4 | 96,288.00
Mobile Fair Housing Center, Inc., P.O. Box 161202, 600 Bel-Air Blvd., Mobile, AL 36616 | Teresa Fox-Bettis, (251) 479-1532 | 4 | 175,609.00
Jacksonville Area Legal Aid, Inc., 126 West Adams, Jackson, MS 32203-3848 | Michael Figgins, (904) 356-8371 | 4 | 274,960.11
West Tennessee Legal Services, Inc., 210 West Main Street, Jackson, TN 38301 | Steven Xanthopoulos, (731) 426-1311 | 4 | 275,000.00
Fair Housing Center of the Greater Palm Beaches, Inc., 1300 W. Lantana Road, Ste. 200, Lantana, FL 33464 | Vince Larkins, (561) 533-8717 | 4 | 200,000.00
Access Living of Metropolitan Chicago, 614 W. Roosevelt Street, Chicago, IL 60607 | Marcia Bristo, (312) 253-7000 | 5 | 275,000.00
Chicago Lawyers Committee for Civil Rights Under Law, 100 N. LaSalle Street, Ste. 750, Chicago, IL 60602 | Sharon Legenza, (312) 630-9744 | 5 | 242,339.00
The John Marshall Law School, 315 South Plymouth Street, Ste. 1211, Chicago, IL 60604 | Michael Seng, (312) 987-1446 | 5 | 273,868.00
Metropolitan Milwaukee Fair Housing Council, Inc., 600 East Mason Street, Ste. 200, Milwaukee, WI 63202 | William Tisdale, (414) 278-1240 | 5 | 275,000.00
Hope Fair Housing Center, Building B, Ste. 1070, 2100 Manchester Street, Wheaton, IL 60187 | Bernard Kleina, (630) 690-6500 | 5 | 275,000.00
Toledo Fair Housing Center, 1000 Monroe Street, Ste. 4, Toledo, OH 43624 | Lisa Rice, (419) 243-6163 | 5 | 275,000.00
South Suburban Housing Center, 18220 Harwood Avenue, Ste. 1, Homewood, IL 60430 | John Petrusack, (708) 957-4674 | 5 | 225,000.00
Southern Minnesota Regional, Legal Services, Inc., 700 Minnesota Building, 46 E. 4th Street, St. Paul, MN 55101 | Michael Hagedorn, (651) 228-9823 | 5 | 184,358.00
Legal Aid Society of Albuquerque, Inc., 500 Cooper Avenue NW., Ste. 300, Albuquerque, NM 87102 | John Arango, (505) 243-7871 | 6 | 275,000.00
The Austin Tenant's Council, 1619 Cesar Chavez Street, Austin, TX 78702 | Katherine Stark, (512) 474-7007 | 6 | 258,971.00
Greater New Orleans Fair Housing Action Center, Inc., 938 Lafayette Street, Ste. 413, New Orleans, LA 70113 | Jeffrey P. May, (504) 596-2100 | 6 | 274,999.00
Metropolitan St. Louis Equal Housing Opportunity, 1027 S. Vandeventer Avenue, 4th Floor, St. Louis, MO 63110 | Bronwen Zwirner, (314) 534-5800 | 7 | 273,321.00
Family Housing Advisory Services, Inc., 2416 Lake Street, Omaha, NE 68111 | Kelvin, S. Blitz-Danler, (402) 934-6675 | 7 | 254,457.00
Wyoming Fair Housing Council, 305 West First Street, Casper, WY 82601 | Linda Harris, (307) 260-6362 | 8 | 198,185.00
Montana Fair Housing, Inc., 904 A Kensington Avenue, Missoula, MT 59801 | Robert Liston, (406) 542-2611 | 8 | 259,481.00
North Dakota Fair Housing Council, 533 Airport Road, Ste. C, Bismarck, ND 58504 | Amy Nelson, (701) 221-2530 | 8 | 273,810.00
Bay Area Legal Aid, 405 14th Street, 9th Floor, Oakland, CA 94612 | Ramon Arias, (510) 663-4755 | 9 | 275,000.00
California Rural Legal Assistance, Inc., 631 Howard Street, Suite 300, San Francisco, CA 94105 | Ilene Jacobs, (530) 742-7235 x308 | 9 | 275,000.00
Fair Housing of Marin, Inc., 615 B Street, San Rafael, CA 94901 | Nancy Kenyon, (415) 547-5025 | 9 | 275,000.00
Silver State Fair Housing Council, P.O. Box 3935, 654 Tahoe Street, Reno, NV 89505-3935 | Katherine Copeland, (775) 324-0990 | 9 | 265,014.00
Orange County Fair Housing Council, 201 S Broadway, Santa Ana, CA 92701-5633 | David Levy, (714) 569-0823 x204 | 9 | 129,600.00
Southern Arizona Fair Housing Center, 2030 E Broadway, Ste. 101, Tucson, AZ 85719 | Richard Rhey, (520) 798-1568 | 9 | 274,960.00
Fair Housing Center of South Puget Sound, 950 Pacific Avenue, Ste. 700, Tacoma, WA 98402 | Lauren Walker, (253) 274-9523 | 10 | 275,000.00
Fair Housing Council of Oregon, 1020 SW Taylor Street, Ste. 700, Portland, OR 97205 | Pegge Michal, (503) 223-3542 | 10 | 274,464.00
Intermountain Fair Housing Council, 310 N 5th Street, Boise, ID 83702 | Richard Mabbutt, (208) 383-0695 | 10 | 274,989.00
Northwest Fair Housing Alliance, 35 West Main Avenue, Ste. 250, Spokane, WA 99201 | Florence Brassier, (509) 325-2665 | 10 | 275,000.00
Fair Housing Organizations Initiative/Establishing New Organizations Component
National Community Reinvestment Coalition, 733 15th Street NW., Ste. 540, Washington, DC 20005 | John Taylor, (202) 628-8866 | 3 | 977,622.00
Jacksonville Area Legal Aid Inc., 126 West Adams Street, Jacksonville, FL 32202-3849 | Michael Figgins, (904) 356-8371 x325 | 4 | 723,293.00
Secretary Initiated Projects/Contracts
TE Systems, Inc., 7700 Leesburg Pike, Suite 316, Falls Church, VA 22043 | Tomas Esterrich, 703-734-9500 | 4 | 400,000.00
DB Consulting Group, Inc., 1100 Wayne Ave., Suite 801, Silver Spring, MD 20910 | Gerald B. Boyd, Jr., 301-589-4020 | 6 | 499,751.00
DB Consulting Group, Inc., 1100 Wayne Ave., Suite 801, Silver Spring, MD 20910 | Gerald B. Boyd, Jr., 301-589-4020 | 6 | 599,816.00
DB Consulting Group, Inc., 1100 Wayne Ave., Suite 801, Silver Spring, MD 20910 | Gerald B. Boyd, Jr., 301-589-4020 | 6 | 494,891.00

[FR Doc. E6-14664 Filed 9-5-06; 8:45 am]

BILLING CODE 4210-67-P